DEPARTMENT OF LABOR

Employment and Training Administration

[TA-W-59,649]

Rowe Furniture, Inc., Including On-Site Leased Workers From Penske Logistics, Elliston, VA; Amended Certification Regarding Eligibility To Apply for Worker Adjustment Assistance and Negative Determination Regarding Eligibility To Apply for Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and a Negative Determination Regarding Eligibility to Apply for Alternative Trade Adjustment Assistance on July 25, 2006, applicable to workers of Rowe Furniture, Inc., Elliston, Virginia. The notice was published in the Federal Register on August 14, 2006 (71 FR 46518).

At the request of the State agency, the Department reviewed the certification for workers of the subject firm. The workers are engaged in the production of upholstered living room furniture.

New information shows that leased workers of Penske Logistics were employed on-site at the Elliston, Virginia location of Rowe Furniture. The Department has determined that these workers were sufficiently under the control of the subject firm to be considered leased workers.

Based on these findings, the Department is amending this certification to include leased workers of Penske Logistics working on-site at the Elliston, Virginia location of the subject firm.

The intent of the Department's certification is to include all workers employed at Rowe Furniture, Inc., Elliston, Virginia who were adversely affected by increased imports.

The amended notice applicable to TA-W-59,649 is hereby issued as follows:

All workers of Rowe Furniture, Inc., including on-site leased workers from Penske Logistics, Elliston, Virginia, who became totally or partially separated from employment on or after June 28, 2005, through July 25, 2008, are eligible to apply for adjustment assistance under Section 223 of the Trade Act of 1974. I further determine that all workers of Rowe Furniture, Inc., Elliston, Virginia are denied eligibility to apply for alternative trade adjustment assistance under Section 246 of the Trade Act of 1974.

Signed at Washington, DC, this 14th day of April 2008.
Richard Church,
Certifying Officer, Division of Trade Adjustment Assistance.

[FR Doc. E8-8354 Filed 4-17-08; 8:45 am]

BILLING CODE 4510-FN-P